DEPARTMENT OF TRANSPORTATION

Federal Aviation Administration

14 CFR Parts 61, 121, and 135

[Docket No. FAA-2010-0100; Amdt. Nos. 61-130C, 121-365B, 135-127B]

RIN 2120-AJ67

Pilot Certification and Qualification Requirements for Air Carrier Operations; Technical Amendment

AGENCY: Federal Aviation Administration, DOT.

ACTION: Final rule; technical amendment.

SUMMARY: The FAA is correcting a final rule published on July 15, 2013. In that rule, the FAA amended its regulations to create new certification and qualification requirements for pilots in air carrier operations. The FAA unintentionally required without notice and comment that if a certificate holder conducting part 135 operations who has voluntarily chosen and been authorized to comply with the part 121 training and qualification requirements, a pilot serving as a second in command in part 135 for that certificate holder is required to have an airline transport pilot certificate and an aircraft type rating. This document corrects those errors and makes several additional miscellaneous corrections to part 61 and a cross-reference error in part 121.

DATES: Effective: January 4, 2016.

FOR FURTHER INFORMATION CONTACT: Barbara Adams, Air Transportation Division, AFS-200, Federal Aviation Administration, 800 Independence Avenue SW., Washington, DC 20591; telephone (202) 267-8166; email barbara.adams@faa.gov.

SUPPLEMENTARY INFORMATION:

Background

On July 15, 2013, the FAA published a final rule entitled, “Pilot Certification and Qualification Requirements for Air Carrier Operations” (78 FR 42324). In that final rule, which became effective July 15, 2013, the FAA revised the pilot certificate requirements for a second in command (SIC) in part 121 operations. Section 121.436(b) requires the SIC to hold an ATP certificate and an aircraft type rating for the airplane flown.

The FAA intended these certification requirements to apply only to pilots serving in part 121 operations. Existing § 135.3(c) states, however, that if authorized by the Administrator upon application, each certificate holder that conducts operations under part 135 to which § 135.3(b) does not apply,¹ may comply with the applicable sections of subparts N and O of part 121 instead of the requirements of subparts E, G, and H of part 135.²

¹ Section 135.3(b) states that each certificate holder that conducts commuter operations under part 135 with airplanes in which two pilots are required by the aircraft type certificate must comply with subparts N and O of part 121 instead of the requirements of subparts E, G, and H of part 135.

² The regulation contains a provision that allows the certificate holder to comply with the operating experience requirements of § 135.244 instead of the requirements of § 121.434.

Each certificate holder conducting part 135 operations who has voluntarily chosen and been authorized to comply with the part 121 training and qualification requirements, is required to comply with Subparts N and O of part 121. Because the certification requirements in § 121.436 are located in subpart O of part 121, an SIC in those operations is now required by reference to hold an ATP certificate and an aircraft type rating. The FAA did not discuss this issue in the preamble to the final rule nor did the FAA intend to impose this requirement on certificate holders conducting part 135 operations who have voluntarily chosen and been authorized to comply with the part 121 training and qualification requirements.

Technical Amendment

Because the FAA did not intend to impose additional requirements on SICs serving in part 135 operations in which the certificate holder has voluntarily chosen and been authorized to comply with the part 121 training and qualification requirements, the FAA is revising § 135.3(c) to clarify that an SIC in those part 135 operations does not need to comply with § 121.436(b) but may continue to hold a commercial pilot certificate with an instrument rating.

The FAA is also making three minor corrections that have been identified since publication of the final rule. In § 61.155(d), the FAA is making it clear that the training required by § 61.156 is only required for those pilots seeking an ATP certificate in the airplane category with a multiengine class rating. In § 61.165(f)(2), the FAA is clarifying that a knowledge test applicable to multiengine airplanes is required only if the pilot does not have valid ATP airplane knowledge test results that were taken prior to August 1, 2014. This correction is necessary to be consistent with the eligibility requirements in § 61.153, which is referenced in § 61.165(f)(1). The FAA notes that until July 31, 2016, pilots will be able to use the same ATP-airplane knowledge test with passing results taken prior to August 1, 2014, for both the ATP airplane single-engine class rating and multiengine class rating practical tests. In § 61.167(a)(2), the FAA is correcting the inadvertent exclusion of helicopter pilots that hold an ATP certificate in the rotorcraft category from the privilege of instructing.

Finally, the FAA is correcting a cross-reference error. In § 121.431, the FAA is correcting the cross-reference in paragraph (a)(1) to reflect § 135.244 rather than § 135.344.

Because these amendments clarify existing requirements and result in no substantive change, the FAA finds that the notice and public procedures under 5 U.S.C. 553(b) are unnecessary. For the same reason, the FAA finds good cause exists under 5 U.S.C. 553(d)(3) to make the amendments effective in less than 30 days.

List of Subjects

14 CFR Part 61

Aircraft, Airmen, Aviation safety.

14 CFR Part 121

Air carriers, Aircraft, Airmen, Aviation safety.

14 CFR Part 135

Air taxis, Aircraft, Airmen, Aviation safety.

Correcting Amendment

In consideration of the foregoing, the Federal Aviation Administration is amending chapter I of title 14, Code of Federal Regulations as follows:

PART 61—CERTIFICATION: PILOTS, FLIGHT INSTRUCTORS, AND GROUND INSTRUCTORS

1. The authority citation for part 61 continues to read as follows:

Authority: 49 U.S.C. 106(f), 106(g), 40113, 44701-44703, 44707, 44709-44711, 44729, 45102-45103, 45301-45302.

2. In § 61.155, revise paragraph (d) to read as follows:

§ 61.155 Aeronautical knowledge.

* * * * *

(d) An applicant who successfully completes the knowledge test for an airline transport pilot certificate prior to August 1, 2014, must successfully complete the practical test within 24 months from the month in which the knowledge test was successfully completed. An applicant who passes the knowledge test prior to August 1, 2014, but fails to successfully complete the airplane category with a multiengine class rating practical test within 24 months must complete the airline transport pilot certification training program specified in § 61.156 and retake the knowledge test prior to applying for the airplane category with a multiengine class rating practical test.

3. In § 61.165, revise paragraph (f)(2) to read as follows:

§ 61.165 Additional aircraft category and class ratings.

* * * * *

(f) * * *

(2) After July 31, 2014, pass a required knowledge test on the aeronautical knowledge areas of § 61.155(c), as applicable to multiengine airplanes; unless a pilot can present valid airline transport pilot knowledge test results from a test taken prior to August 1, 2014.

* * * * *

4. In § 61.167, revise paragraph (a)(2) introductory text to read as follows:

§ 61.167 Airline transport pilot privileges and limitations.

(a) * * *

(2) A person who holds an airline transport pilot certificate and has met the aeronautical experience requirements of § 61.159 or § 61.161, and the age requirements of § 61.153(a)(1) of this part may instruct—

* * * * *

PART 121—OPERATING REQUIREMENTS: DOMESTIC, FLAG, AND SUPPLEMENTAL OPERATIONS

7. The authority citation for part 121 continues to read as follows:

Authority: 49 U.S.C. 106(f), 106(g), 40113, 40119, 41706, 44101, 44701-44702, 44705, 44709-44711, 44713, 44716-44717, 44722, 44729, 44732, 46105; Pub. L. 111-216, 124 Stat. 2348 (49 U.S.C. 44701 note); Pub. L. 112-95, 126 Stat. 62 (49 U.S.C. 44732 note).

8. In § 121.431, revise paragraph (a)(1) to read as follows:

§ 121.431 Applicability.

(a) * * *

(1) Prescribes crewmember qualifications for all certificate holders except where otherwise specified. The qualification requirements of this subpart also apply to each certificate holder that conducts commuter operations under part 135 of this chapter with airplanes for which two pilots are required by the aircraft type certification rules of this chapter. The Administrator may authorize any other certificate holder that conducts operations under part 135 of this chapter to comply with the training and qualification requirements of this subpart instead of subparts E, G, and H of part 135 of this chapter, except that these certificate holders may choose to comply with the operating experience requirements of § 135.244 of this chapter, instead of the requirements of § 121.434. Notwithstanding the requirements of this subpart, a pilot serving under part 135 of this chapter as second in command may meet the requirements of § 135.245 instead of the requirements of § 121.436; and

* * * * *

PART 135—OPERATING REQUIREMENTS: COMMUTER AND ON DEMAND OPERATIONS AND RULES GOVERNING PERSONS ON BOARD SUCH AIRCRAFT

9. The authority citation for part 135 continues to read as follows:

Authority: 49 U.S.C. 106(f), 106(g), 41706, 40113, 44701-44702, 44705, 44709, 44711-44713, 44715-44717, 44722, 44730, 45101-45105; Pub. L. 112-95, 126 Stat. 58 (49 U.S.C. 44730).

10. In § 135.3, revise paragraph (c) to read as follows:

§ 135.3 Rules applicable to operations subject to this part.

* * * * *

(c) If authorized by the Administrator upon application, each certificate holder that conducts operations under this part to which paragraph (b) of this section does not apply, may comply with the applicable sections of subparts N and O of part 121 instead of the requirements of subparts E, G, and H of this part, except that those authorized certificate holders may choose to comply with the operating experience requirements of § 135.244, instead of the requirements of § 121.434 of this chapter. Notwithstanding the requirements of this paragraph, a pilot serving under this part as second in command may meet the requirements of § 135.245 instead of the requirements of § 121.436.

Issued in Washington, DC under the authority provided by 49 U.S.C. 106(f), 44701(a) and Secs. 216-217, Public Law 111-216, 124 Stat. 2348 on December 23, 2015.
Lirio Liu,
Director, Office of Rulemaking.

[FR Doc. 2015-32998 Filed 12-31-15; 8:45 am]

BILLING CODE 4910-13-P